DEPARTMENT OF HEALTH AND HUMAN SERVICES

Centers for Disease Control and Prevention

Disease, Disability, and Injury Prevention and Control Special Emphasis Panel; (SEP)—CE22-005, “Research Grants for Preventing Violence and Violence Related Injury (R01)”; Amended Notice of Meeting

Notice is hereby given of a change in the meeting of the Disease, Disability, and Injury Prevention and Control Special Emphasis Panel; (SEP)—CE22-005, “Research Grants for Preventing Violence and Violence Related Injury (R01),” May 10-11, 2022, 8:30 a.m., EDT-5:30 p.m., EDT, Web Conference, in the original FRN. The meeting was published in the Federal Register on February 24, 2022, Volume 87, Number 37, page/s/10366.

The meeting is being amended to change the meeting date and should read as follows: CE22-005, “Research Grants for Preventing Violence and Violence Related Injury (R01),” May 10, 2022, 8:30 a.m., EDT-5:30 p.m., EDT.

The meeting is closed to the public.

FOR FURTHER INFORMATION CONTACT: Aisha L. Wilkes, M.P.H., Scientific Review Officer, National Center for Injury Prevention and Control, CDC, 4770 Buford Highway NE, Mailstop S106-9, Atlanta, Georgia 30341, Telephone (404) 639-6473, AWilkes@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-05755 Filed 3-17-22; 8:45 am]

BILLING CODE 4163-18-P